FEDERAL COMMUNICATIONS COMMISSION

47 CFR Part 73

[DA 08-2256; MB Docket No. 07-281; RM-11408]

Radio Broadcasting Services; Elko, NV

AGENCY: Federal Communications Commission.

ACTION: Final rule.

SUMMARY: At the request of L. Topaz Enterprises, Inc., Channels 274C3 and 284C3 at Elko, Nevada, are allotted as the community's fifth and sixth local aural transmission services. Channels 274C3 and 284C3 can be allotted at Elko, Nevada without a site restriction at coordinates 40-49-57 NL and 115-45-44 WL. Opposing comments filed by Ralph J. Carlson, President of Stations KRJC(FM) and KTSN(AM), Elko, Nevada are denied.

DATES: Effective November 24, 2008.

ADDRESSES: Secretary, Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 07-281, adopted October 08, 2008, and released October 10, 2008. This proceeding was initiated by a petition for rulemaking filed by L. Topaz Enterprises, Inc. and proposed in a Notice of Proposed Rule Making, 73 FR 1577 (January 9, 2008). The full text of this Commission decision is available for inspection and copying during normal business hours in the FCC's Reference Information Center at Portals II, CY-A257, 445 Twelfth Street, SW., Washington, DC 20554. This document may also be purchased from the Commission's copy contractor, Best Copy and Printing, Inc., Portals II, 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Nevada is amended by adding Elko, Channels 274C3 and 284C3.

Federal Communications Commission.
John A. Karousos,
Assistant Chief, Audio Division, Media Bureau.

[FR Doc. E8-25467 Filed 10-23-08; 8:45 am]

BILLING CODE 6712-01-P